ENVIRONMENTAL PROTECTION AGENCY

[FRL-9902-62-OEI]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et seq.). An agency may not conduct or sponsor, and a person is not required to respond to, a collection of information unless it displays a currently valid OMB control number. The OMB control numbers for EPA regulations are listed in 40 CFR part 9 and 48 CFR chapter 15.

FOR FURTHER INFORMATION CONTACT: Rick Westlund (202) 566-1682, or email at westlund.rick@epa.gov and please refer to the appropriate EPA Information Collection Request (ICR) Number.

SUPPLEMENTARY INFORMATION:

OMB Responses to Agency Clearance Requests

OMB Approvals

EPA ICR Number 2243.07; Procedures for Implementing the National Environmental Policy Act (NEPA) and Assessing the Environmental Effects Abroad of EPA Actions (Renewal); 40 CFR 6.301; was approved on 10/18/2013; OMB Number 2020-0033; expires on 10/31/2016; Approved with change.

EPA ICR Number 2080.05; Motor Vehicle and Engine Compliance Program Fees (Renewal); 40 CFR part 1027; was approved on 10/17/2013; OMB Number 2060-0545; expires on 10/31/2016; Approved without change.

EPA ICR Number 1844.06; NESHAP for Petroleum Refineries, Catalytic Cracking, Reforming and Sulfur Units; 40 CFR part 63 subparts A and UUU; was approved on 10/24/2013; OMB Number 2060-0554; expires on 10/31/2016; Approved without change.

EPA ICR Number 2379.02; Great Lakes Accountability System (Reinstatement); was approved on 10/24/2013; OMB Number 2005-0001; expires on 10/31/2016; Approved with change.

EPA ICR Number 1717.09; NESHAP for Off-Site Waste and Recovery Operations; 40 CFR part 63 subparts A and DD; was approved on 10/30/2013; OMB Number 2060-0313; expires on 10/31/2016; Approved without change.

EPA ICR Number 1869.07; NESHAP for the Manufacture of Amino/Phenolic Resins; 40 CFR part 63 subparts A and OOO; was approved on 10/30/2013; OMB Number 2060-0434; expires on 10/31/2016; Approved without change.

EPA ICR Number 1984.05; NESHAP for Plywood and Composite Wood Products; 40 CFR part 63 subparts A and DDDD; was approved on 10/30/2013; OMB Number 2060-0552; expires on 10/31/2016; Approved without change.

EPA ICR Number 0309.14; Registration of Fuels and Fuel Additives: Requirements for Manufacturers (Renewal); 40 CFR part 79 subpart B; 40 CFR 79.5; and 40 CFR part 79 subpart C; was approved on 10/30/2013; OMB Number 2060-0150; expires on 10/31/2016; Approved without change.

EPA ICR Number 0010.13; Information Requirements for Importation of Nonconforming Vehicles (Renewal); 19 CFR 12.73 and 12.74; and 40 CFR part 85 subparts P and R; was approved on 10/31/2013; OMB Number 2060-0095; expires on 10/31/2016; Approved without change.

Comment Filed

EPA ICR Number 2300.12; Greenhouse Gas Reporting Program (Proposed Rule); in 40 CFR parts 86, 89, 90, 94, 98, 600, 1033, 1039, 1042, 1045, 1048, 1051, 1054, and 1065; OMB filed comment on 10/30/2013.

John Moses,
Director, Collections Strategies Division.

[FR Doc. 2013-27054 Filed 11-12-13; 8:45 am]

BILLING CODE P